ELECTION ASSISTANCE COMMISSION

Sunshine Act Meetings

AGENCY: Election Assistance Commission.

ACTION: Sunshine Act notice; notice of public meeting agenda.

SUMMARY: Public Meeting: U.S. Election Assistance Commission.

DATES: August 28, 1:00 p.m. EST.

ADDRESSES: The Election Assistance Commission hearing room at 633 3rd St. NW, Washington, DC 20001. The meeting is open to the public and will be live streamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold a public meeting on “Closing the Accessibility Gap: Voting in 2024 and Beyond.”

Agenda: The EAC will host a public meeting to discuss progress made on serving voters with disabilities and new advances in technology, best practices, and funding opportunities to support accessibility efforts. The agenda includes panel discussions with representatives from the EAC, election administrators, and subject matter experts. Panelists will give remarks and respond to questions from the EAC Commissioners.

The full agenda will be posted in advance on the events page of the EAC website: https://www.eac.gov/events/2024/08/28/closing-accessibility-gap-voting-2024-and-beyond.

Background: Through the Help America Vote Act of 2002 (HAVA), the EAC is tasked with maintaining a clearinghouse of election administration information. HAVA also ensures there is at least one accessible voting machine per polling place and created additional rights related to ballot casting for voters with disabilities. To fulfill this mission, the EAC provides best practices recommendations, training materials, and other resources for election officials. By enhancing the agency's work with voters with disabilities and the election officials who serve them, the EAC aims to improve accessibility and ensure an independent and private vote for all.

Status: This meeting will be open to the public.

Camden Kelliher,
Acting General Counsel, U.S. Election Assistance Commission.

[FR Doc. 2024-17851 Filed 8-7-24; 11:15 am]

BILLING CODE 4810-71-P